DEPARTMENT OF JUSTICE

Drug Enforcement Administration

Orlando Ortega-Ortiz, M.D. Revocation of Registration

On February 20, 2004, the Deputy Assistant Administrator, Office of Diversion Control, Drug Enforcement Administration (DEA), issued an Order to Show Cause to Orlando Ortega-Ortiz, M.D. (Dr. Ortega-Ortiz) of Penuelas, Puerto Rico, notifying him of an opportunity to show cause as to why DEA should not revoke his DEA Certificate of Registration B07925766, as a practitioner, under 21 U.S.C. 824(a)(5) and deny any pending applications for renewal or modification of that registration. As a basis for revocation, the Order to Show Cause alleged that Dr. Ortega-Ortiz has been mandatorily excluded from participating in federal health programs pursuant to 42 U.S.C. 1320-7(a). The order also notified Dr. Ortega-Ortiz that should no request for a hearing be filed within 30 days, his hearing right would be deemed waived.

The Order to Show Cause was sent by certified mail to Dr. Ortega-Ortiz at his address of record at 656h Infanteria 319, Penuelas, Puerto Rico 00624. The letter was delivered to the registered address prior to April 1, 2004, and receipted for by Dr. Ortega-Ortiz. DEA has not received a request for a hearing or any other reply from Dr. Ortega-Ortiz or anyone purporting to represent him in this matter.

Therefore, the Deputy Administrator, finding that (1) 30 days have passed since the receipt of the Order to Show Cause, and (2) no request for a hearing having been received, concludes that Dr. Ortega-Ortiz is deemed to have waived his hearing right. See Samuel S. Jackson, D.D.S., 67 FR 65145 (2002); David W. Linder, 67 FR 12579 (2002). After considering material from the investigative file, the Deputy Administrator now enters her final order without a hearing pursuant to 21 CFR 1301.43(d) and (e) and 1301.46.

The Deputy Administrator finds that Dr. Ortega-Ortiz currently possesses DEA Certificate of Registration B07925766. The Deputy Administrator further finds that as a result of Dr. Ortega-Ortiz's fraudulent activities, pursuant to his guilty pleas, on September 17, 2002, he was convicted in the United States District Court, District of Puerto Rico of 11 counts of conspiring to solicit and receive kickbacks in relation to Medicare referrals, in violation of 18 U.S.C. 371. He was sentenced to three years probation and a $7,500.00 fine.

As a result of Dr. Ortega-Ortiz's convictions, he was notified by the Department of Health and Human Services of his five-year mandatory exclusion from participation in the Medicare program pursuant to 42 U.S.C. 1320a-7(a). Exclusion from Medicare is an independent ground for revoking a DEA registration. 21 U.S.C. 824(a)(5); see Johnnie Melvin Turner, M.D., 67 FR 71203 (2002). The underlying conviction forming the basis for a registrant's exclusion from participating in federal health care programs need not involve controlled substances for revocation under 21 U.S.C. 824(a)(5). See KK Pharmacy, 64 FR 49507 (1999); Stanley Dubin, D.D.S., 61 FR 60727 (1996).

Accordingly, the Deputy Administrator of the Drug Enforcement Administration, pursuant to the authority vested in her by 21 U.S.C. 823 and 824 and 28 CFR 0.100(b) and 0.104, hereby orders that DEA Certificate of Registration B07925766, issued to Orlando Ortega-Ortiz, M.D., be, and it hereby is, revoked. The Deputy Administrator further orders that any pending applications for renewal of such registration be, and they hereby are, denied. This order is effective April 25, 2005.

Dated: September 29, 2004.
Michele M. Leonhart,
Deputy Administrator.

Editorial Note: This document was received at the Office of the Federal Register on March 21, 2005.

[FR Doc. 05-5815 Filed 3-23-05; 8:45 am]

BILLING CODE 4410-09-M